DEPARTMENT OF AGRICULTURE

Office of the Secretary

The U.S. Department of Agriculture (USDA) Proposes to Revise Three of Its Privacy Act Systems of Records

AGENCY: Office of the Secretary, USDA.

ACTION: The U.S. Department of Agriculture (USDA) proposes to revise three of its Privacy Act systems of records.

DATES: Effective Date: This notice will be adopted without further publication in the Federal Register on April 12, 2010 unless modified by a subsequent notice to incorporate comments received from the public. While the Privacy Act requires an agency to solicit comments only on the routine uses of a system, USDA invites comments on all portions of this notice. Comments must be received by the contact person listed below on or before March 12, 2010.

FOR FURTHER INFORMATION CONTACT: Jerry A. Chenault, Program Manager, Associate Chief Financial Officer for Financial Systems, 1400 Independence Avenue, SW., Room 3021A South Building, Washington, DC, 20250; telephone (202) 720-5957; electronic mail jerry.chenault@usda.gov.

SUPPLEMENTARY INFORMATION: Currently, there are three separate System of Records Notices for the systems that encompass the Office of the Chief Financial Officer (OCFO) Financial Management Suite. The Financial Management Suite allows OCFO to process financial transactions electronically.

This new System of Records Notice consolidates and replaces the information contained in the three existing System of Records Notices. This notice also updates the information collected and lists routine uses required by OCFO to execute its function.

The systems affected by this Corporate Financial Management Systems suite are: USDA/OCFO—3, Billings and Collections Systems; USDA/OFM—4, Travel and Transportation System; and USDA/OFM—7, SF-1099 Reporting System. The purpose of the proposed revision is to replace the three named systems.

The OCFO restructured its Privacy Act system notices in order to address information contained in the systems more logically from a functional perspective. The Financial Systems, which will encompass all of the current electronic applications that OCFO uses, would be represented in a single System of Records Notice.

Financial Systems consist of the electronic information technology systems that contain information concerning individuals and businesses that receive payments for providing goods and services to USDA. This proposed notice covers: (1) Individuals who have funds advanced to them for USDA official travel use, approving officials, and individuals who perform official USDA travel and are reimbursed with Government funds; (2) Individuals who receive payments in the form of rents, royalties, prizes, or awards; (3) Individuals who receive payments for non-personal service contracts, commissions, or compensation for services, which are subject to Form 1099 reporting requirements are included in the suite of systems; (4) USDA employees who have been issued a Government purchase card, Government fleet card or a Government travel card; and (5) Employee information necessary to record employee salary disbursements in the financial system that is essential for Internal Revenue Service income tax reporting. The employee records are also used to pay employees for travel reimbursement and any other miscellaneous payments due to the employee.

USDA determined that a consolidation of the multiple financial systems is the most efficient, logical, taxpayer-friendly, and user-friendly method of complying with the publication requirements of the Privacy Act. The subject records reflect a common purpose, common functions, and common user community. USDA hereby deletes the following systems of records: USDA/OCFO—3, Billings and Collections Systems; USDA/OFM—4, Travel and Transportation System; and USDA/OFM—7, Form 1099 Reporting System. A report on the new system of records, required by 5 U.S.C. 552a (r) as implemented by the Office of Management and Budget (OMB) Circular A-130, Management of Federal Information Resources was sent to the Chairman, Committee on Homeland Security and Governmental Affairs, United States Senate; the Chairman, Committee on Government Reform and Oversight, U.S. House of Representatives; and the Administrator, Office of Information and Regulatory Affairs, OMB.

Dated: February 3, 2010.
Thomas J. Vilsack,
Secretary.

Financial Systems, USDA/OCFO—10

System of Records

SYSTEM NAME:

Financial Systems

SECURITY CLASSIFICATION:

Unclassified

SYSTEM LOCATION:

The systems are operated from USDA headquarters located at 1400 Independence Avenue, SW., Washington, DC 20250, with other operational locations within the continental United States.

CATEGORIES OF INDIVIDUALS COVERED BY THE SYSTEM:

The Financial Systems contain information about individuals and businesses that receive payments for providing goods and services to the USDA. Individuals who have funds advanced to them for official travel use, approving officials, and individuals who perform official USDA travel and are reimbursed with Government funds are included in this system, as well as individuals (excluding USDA employees) who receive payments in the form of rents, royalties, prizes, or awards, individuals (excluding USDA employees) who receive payments for non-personal service contracts, commissions, or compensation for services that are subject to Form 1099 reporting requirements, and USDA employees who have been issued a purchase card, fleet card or travel card are included in the system. Employee information contained in the Financial Systems is used to record the financial impact of employee salary disbursements in the financial system and for Internal Revenue Service income tax reporting. In addition, the employee records are used to pay employees for travel reimbursement and any other miscellaneous payments due to the employee.

CATEGORIES OF RECORDS IN THE SYSTEM:

The Financial Systems establish several databases containing the individual's and business' name, address, Social Security number (SSN) (or employer identification number), ZIP code, amount of payment, and other information necessary to accurately identify covered payment transactions.

AUTHORITY FOR MAINTENANCE OF THE SYSTEM:

Chief Financial Officers (CFO) Act of 1990.

PURPOSE(S):

The records in this system are used to record the financial transactions of the USDA and provide payments to businesses that provide goods and services to the USDA and payments to employees.

ROUTINE USES OF RECORDS MAINTAINED IN THE SYSTEM, INCLUDING CATEGORIES OF USERS AND THE PURPOSE OF SUCH USES:

1. Referral to the appropriate agency, whether Federal, State, local, or foreign, charged with the responsibility of investigating or prosecuting a violation of law, or of enforcing or implementing a statute or rule, regulation or order issued pursuant thereto, of any record within this system when information available indicates a violation or potential violation of law, whether civil, criminal, or regulatory in nature, and whether arising by general statute or particular program statute, or by rule, regulation, or order issued pursuant thereto.

2. Referral to the Department of Justice (DOJ) when (a) the agency, or any component thereof; or (b) any employee of the agency in his or her official capacity; or (c) any employee of the agency in his or her individual capacity where the DOJ has agreed to represent the employee; or (d) the United States, where the agency determines that litigation is likely to affect the agency or any of its components, is a party to the litigation or has an interest in such litigation, and the use of such records by the DOJ is deemed by the agency to be relevant and necessary to the litigation, providing, however, that in each case, the agency determines that disclosure of the records to the DOJ is a use of the information that is compatible with the purpose for which the records were collected.

3. Disclosure in a proceeding before a court or adjudicative body before which the agency is authorized to appear, when (a) the agency, or any component thereof; or (b) any employee of the agency in his or her official capacity; or (c) any employee of the agency in his or her individual capacity where the DOJ has agreed to represent the employee; or (d) the United States, where the agency determines that litigation is likely to affect the agency or any of its components, is a party to the litigation, or has an interest in such litigation, and the use of such records by the DOJ is deemed by the agency to be relevant and necessary to the litigation, providing, however, that in each case, the agency determines that disclosure of the records to the DOJ is a use of the information that is compatible with the purpose for which the records were collected.

4. Disclosure may be made to a congressional office from the record of an individual in response to an inquiry from the congressional office made on behalf of that individual.

5. Information from this system of records will be forwarded to the Internal Revenue Service for income tax purposes.

6. Release of information to other USDA agencies may be made for internal processing purposes.

7. Information will be reviewed during inquiry into payments to be made by the USDA to its employees.

8. To appropriate agencies, entities, and persons when (1) the agency suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons as reasonably necessary to assist in connection with the Department's efforts to respond to the suspected or confirmed compromise and prevent, minimize, or remedy such harm.

9. USDA will disclose information about individuals from the system of records in accordance with the Federal Funding Accountability and Transparency Act of 2006 (Pub. L. 109-282; codified at 31 U.S.C. 6101, et seq.); section 204 of the E-Government Act of 2002 (Pub. L. 107-347; 44 U.S.C. 3501 note), and the Office of Federal Procurement Policy Act (41 U.S.C. 403 et seq.), or similar statutes requiring agencies to make public information concerning Federal financial assistance, including grants, sub-grants, loan awards, cooperative agreements, and other financial assistance; and contracts, purchase orders, task orders, and delivery orders.

POLICIES AND PRACTICES FOR STORING, RETRIEVING, ACCESSING, RETAINING, AND DISPOSING OF RECORDS IN THE SYSTEM:

STORAGE:

Records are stored and maintained electronically on USDA-owned mainframes, servers, tapes, disks, and in file folders at USDA offices.

RETRIEVABILITY:

Records in the system are retrieved by SSNs or by employee identification numbers.

SAFEGUARDS:

Magnetic tape files and disk files are kept in a locked computer room and tape library, which can be accessed by authorized personnel only. File folders are maintained in a secured area and access is only permitted to authorized personnel. On-line access by USDA personnel is password protected. Data that is transmitted electronically is encrypted. There are Memoranda of Understanding and Interconnectivity Security Agreements to govern the transmission of Financial Systems data. There are Service Level Agreements with data centers that provide computing services for the Financial Systems. Contracts contain specific language for contractors to protect private information and follow USDA privacy policy.

RETENTION AND DISPOSAL:

Master history magnetic tapes are retained in accordance with a tape library management schedule. Manual records are transferred to the Federal Records Center for storage and disposition in accordance with the appropriate retention schedules.

SYSTEM MANAGER(S) AND ADDRESS:

USDA, Office of the Chief Financial Officer/Associate Chief Financial Officer for Financial Systems, 1400 Independence Avenue, SW., Room 3037 South Building, Washington, DC 20250.

NOTIFICATION PROCEDURE:

An individual may request information regarding this system of records or information as to whether the system contains records pertaining to such individual from the Office of the Chief Financial Officer, Washington, DC office. The request for information should contain the individual's name, SSN or tax identification number (TIN) and address. Before information of any record is released, the system manager may require the individual to provide proof of identity or require the requester to furnish authorization from the individual to permit release of information.

RECORD ACCESS PROCEDURES:

An individual my obtain information as to the procedures for gaining access to a record in the system, which pertains to such individual, by submitting a request to the Privacy Act Officer, 1400 Independence Avenue, SW., South Building, Washington, DC 20250. The envelope and letters should be marked “Privacy Act Request.” A request for information should contain name, address, and name of system of records, year of records in question, and any other pertinent information to help identify the file.

CONTESTING RECORD PROCEDURES:

Procedures for contesting records are the same as procedures for record access. Include the reason for contesting the record and the proposed amendment to the information with supporting documentation to show how the record is inaccurate.

RECORD SOURCE CATEGORIES:

Records are loaded from the USDA payroll system to create records of USDA employees. Vendors who do business with the USDA submit their information into the Central Contractor Registration, which is subsequently loaded into the Financial Systems. This information includes but is not limited to SSN, TIN, name, address, and bank electronic funds transfer information. Records are also directly loaded on-line into the Financial Systems by agency personnel.

[FR Doc. 2010-2969 Filed 2-9-10; 8:45 am]

BILLING CODE 3410-90-P